DEPARTMENT OF COMMERCE

International Trade Administration

[A-580-825]

Oil Country Tubular Goods From the Republic of Korea; Initiation of Changed Circumstances Antidumping Duty Administrative Review

AGENCY: Import Administration, International Trade Administration, Department of Commerce.

ACTION: Notice of Initiation of Changed Circumstances Antidumping Duty Administrative Review.

SUMMARY: In response to a letter from Hyundai Pipe Co., Ltd. (“HDP”) notifying the Department of Commerce that its corporate name would be changing to Hyundai Steel Company (“Hyundai Hysco”), the Department of Commerce is initiating a changed circumstances administrative review of the antidumping duty order on oil country tubular goods from the Republic of Korea (see Antidumping Duty Order: Oil Country Tubular Goods from the Republic of Korea (“Korea”), 60 FR 41057, August 11, 1995).

EFFECTIVE DATE: March 1, 2001.

FOR FURTHER INFORMATION CONTACT: Mike Strollo or Scott Lindsay, Import Administration, International Trade Administration, U.S. Department of Commerce, 14th Street and Constitution Avenue, NW., Washington, DC 20230; telephone (202) 482-5255 and (202) 482-3782, respectively.

Applicable Statute

Unless otherwise indicated, all citations to the statute are references to the provisions effective January 1, 1995, the effective date of the amendments made to the Tariff Act of 1930, as amended (“the Act”), by the Uruguay Round Agreements Act.

SUPPLEMENTARY INFORMATION:

Background

On January 5, 2001, a respondent in the original investigation of this proceeding, HDP, notified the Department of Commerce (“the Department”) that as of February 1, 2001, its corporate name would change to Hyundai Hysco. HDP stated that the corporate structure would not change, and that all owners, management, production facilities, suppliers and customers will also remain the same. HDP provided documentation to support this claim, consisting of an official announcement and a press article noting the name change.

On February 9, 2001, HDP submitted supplementary information documenting the nature of the name change including, inter alia, relevant notes from the most recent financial statement, minutes of a shareholders' meeting, customer lists, and organizational charts under both names, which are identical.

Scope of the Review

The products covered by this order are oil country tubular goods (“OCTG”), hollow steel products of circular cross-section, including only oil well casing and tubing, of iron (other than cast iron) or steel (both carbon and alloy), whether seamless or welded, whether or not conforming to American Petroleum Institute (“API”) or non-API specifications, whether finished or unfinished (including green tubes and limited service OCTG products). This scope does not cover casing or tubing pipe containing 10.5 percent or more of chromium, or drill pipe. The products subject to this order are currently classified in the Harmonized Tariff Schedule of the United States (“HTSUS”) under item numbers: 7304.29.10.10, 7304.29.10.20, 7304.29.10.30, 7304.29.10.40, 7304.29.10.50, 7304.29.10.60, 7304.29.10.80, 7304.29.20.10, 7304.29.20.20, 7304.29.20.30, 7304.29.20.40, 7304.29.20.50, 7304.29.20.60, 7304.29.20.80, 7304.29.30.10, 7304.29.30.20, 7304.29.30.30, 7304.29.30.40, 7304.29.30.50, 7304.29.30.60, 7304.29.30.80, 7304.29.40.10, 7304.29.40.20, 7304.29.40.30, 7304.29.40.40, 7304.29.40.50, 7304.29.40.60, 7304.29.40.80, 7304.29.50.15, 7304.29.50.30, 7304.29.50.45, 7304.29.50.60, 7304.29.50.75, 7304.29.60.15, 7304.29.60.30, 7304.29.60.45, 7304.29.60.60, 7304.29.60.75, 7305.20.20.00, 7305.20.40.00, 7305.20.60.00, 7305.20.80.00, 7306.20.10.30, 7306.20.10.90, 7306.20.20.00, 7306.20.30.00, 7306.20.40.00, 7306.20.60.10, 7306.20.60.50, 7306.20.80.10, and 7306.20.80.50. Although the HTSUS item numbers are provided for convenience and Customs purposes, the written description remains dispositive of the scope of this review.

Initiation of Antidumping Duty Changed-Circumstances Review

Pursuant to section 751(b)(1) of the Act, the Department will conduct a changed circumstances review upon receipt of information concerning, or a request from an interested party of, an antidumping duty order which shows changed circumstances sufficient to warrant a review of the order.

In making a successor-in-interest determination, the Department examines several factors including, but not limited to, the following changes: (1) Management; (2) production facilities; (3) supplier relationships; and (4) customer base. See, e.g., Brass Sheet and Strip from Canada; Final Results of Antidumping Duty Administrative Review, 57 FR 20460 (May 13, 1992) (Canadian Brass).

The information submitted by HDP shows changed circumstances sufficient to warrant a review under 19 CFR 351.216. Although HDP did not request a changed circumstances review, we consider that, in order to determine whether Hyundai Hysco is a successor-in-interest to HDP, which was the company originally investigated, we must conduct a changed circumstances review. Therefore, we are initiating a changed circumstances antidumping duty administrative review pursuant to section 751(b)(1) of the Act to determine whether Hyundai Hysco as manufacturer or exporter should be excluded from the antidumping duty order as HDP is.

We will publish in the Federal Register a notice of preliminary results of antidumping duty changed circumstances review, in accordance with 19 CFR 351.221(b)(4) and 351.221(c)(3)(i), which will set forth the factual and legal conclusions upon which our preliminary results are based and a description of any action proposed based on those results. As per 351.221(b)(4), interested parties will have an opportunity to comment. The Department will issue its final results of review in accordance with the time limitations set forth in 19 CFR 351.216(e). All written comments must be submitted to the Department and served on all interested parties on the Department's service list in accordance with 19 CFR 351.303.

During the course of this changed circumstances review, we will not change any cash deposit instructions on the merchandise subject to this changed circumstances review, unless a change is determined to be warranted pursuant to the final results of this review.

This notice is in accordance with section 751(b)(1) of the Act and 19 CFR 351.216 and 351.221.

Dated: February 23, 2001.
Joseph A. Spetrini,
Deputy Assistant Secretary, AD/CVD Enforcement Group III.

[FR Doc. 01-5013 Filed 2-28-01; 8:45 am]

BILLING CODE 3510-DS-P